DEPARTMENT OF ENERGY

Federal Energy Regulatory Commission

[Docket No. ER11-4580-000]

California Independent System Operator Corporation; Notice Establishing Comment Periods

On February 2, 2012, Federal Energy Regulatory Commission staff held a technical conference to discuss issues related to the California Independent System Operator Corporation's proposal to eliminate convergence bidding at intertie scheduling points.¹ This notice establishes the comment periods for parties wishing to submit comments following the technical conference. All parties are invited to submit initial comments on or before Friday, March 9, 2012, and initial comments are requested to be no longer than 25 pages. Reply comments are due on or before Friday, March 23, 2012, and are requested to be no longer than 15 pages.

¹ Cal. Indep. Sys. Operator Corp., 137 FERC ¶ 61,157 at P 1 (2011).

For more information, please contact Colleen Farrell at Colleen.Farrell@ferc.gov or (202) 502-6751 or Moon Athwal at Moon.Athwal@ferc.gov.

Dated: February 8, 2012.
Kimberly D. Bose,
Secretary.

[FR Doc. 2012-3406 Filed 2-13-12; 8:45 am]

BILLING CODE 6717-01-P